DEPARTMENT OF HOMELAND SECURITY

Transportation Security Administration

Intent To Request Renewal From OMB of One Current Public Collection of Information: Aircraft Operator Security

AGENCY: Transportation Security Administration, DHS.

ACTION: 60-day notice.

SUMMARY: The Transportation Security Administration (TSA) invites public comment on an existing information collection requirement abstracted below that will be submitted to the Office of Management and Budget (OMB) for renewal in compliance with the Paperwork Reduction Act. The collection requires aircraft operators to adopt and implement a TSA-approved security program. These programs require aircraft operators to maintain and update records to ensure compliance with security provisions outlined in 49 CFR part 1544.

DATES: Send your comments by May 17, 2010.

ADDRESSES: Comments may be mailed or delivered to Joanna Johnson, Communications Branch, Business Management Office, Operational Process and Technology, TSA-32, Transportation Security Administration, 601 South 12th Street, Arlington, VA 20598-4220.

FOR FURTHER INFORMATION CONTACT: Joanna Johnson at the above address, or by telephone (571) 227-3651 or facsimile (571) 227-3588.

SUPPLEMENTARY INFORMATION:

Comments Invited

In accordance with the Paperwork Reduction Act of 1995 (44 U.S.C. 3501 et seq.), an agency may not conduct or sponsor, and a person is not required to respond to, a collection of information unless it displays a valid OMB control number. The Information Collection Requirement (ICR) documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0003; Security Programs for Aircraft Operators, 49 CFR part 1544. The information collected is used to determine compliance with 49 CFR part 1544 and to ensure passenger safety by monitoring aircraft operator security procedures. TSA is seeking to renew its OMB control number, 1652-0003, Aircraft Operator Security. TSA has implemented aircraft operator security standards at 49 CFR part 1544 to require each aircraft operator to which this part applies to adopt and implement a security program. These TSA-approved security programs establish procedures that aircraft operators must carry out to protect persons and property traveling on flights provided by the aircraft operator against acts of criminal violence, aircraft piracy, and the introduction of explosives, incendiaries, or weapons aboard an aircraft.

This information collection is mandatory for aircraft operators. As part of their security programs, affected aircraft operators are required to maintain and update, as necessary, records of compliance with the security program provisions set forth in 49 CFR part 1544. This regulation also requires affected aircraft operators to make their security programs and associated records available for inspection and copying by TSA to ensure transportation security and regulatory compliance.

The information requested of aircraft operators has increased due to the security measures mandated by the Federal Government since September 11, 2001. The information TSA now collects includes identifying information on aircraft operators' flight crews and passengers. Specifically, TSA requires aircraft operators to submit the following information: (1) A master crew list of all flight and cabin crew members flying to and from the United States; (2) the flight crew list on a flight-by-flight basis; (3) passenger information on a flight-by-flight basis; (4) total amount of cargo screened; (5) total amount of cargo screened at 100%; and (6) total amount of cargo screened at 50%. Aircraft operators are required to provide this information via electronic means. Aircraft operators with limited electronic systems may need to modify their current systems or generate a new computer system in order to submit the requested information but are not restricted to these means. Under this regulation, aircraft operators must ensure that flight crew members and employees with unescorted access authority or who perform screening, checked baggage or cargo functions submit to and receive a criminal history records check (CHRC). As part of the CHRC process, the individual must provide identifying information, including fingerprints. Additionally, aircraft operators must maintain these records and make them available to TSA for inspection and copying upon request.

TSA will continue to collect information to determine aircraft operator compliance with other requirements of 49 CFR part 1544. TSA estimates that there will be approximately 800 respondents to the information requirements described above requiring approximately 1,841,130 hours per year to process.

Issued in Arlington, Virginia, on March 11, 2010.
Joanna Johnson,
Paperwork Reduction Officer, Office of Information Technology.

[FR Doc. 2010-5732 Filed 3-15-10; 8:45 am]

BILLING CODE 9110-05-P